DEPARTMENT OF COMMERCE

International Trade Administration

[A-570-929]

Small Diameter Graphite Electrodes From the People's Republic of China: Extension of Time Limit for the Final Results of the First Administrative Review of the Antidumping Duty Order

AGENCY: Import Administration, International Trade Administration, Department of Commerce.

DATES: Effective Date: June 21, 2011.

FOR FURTHER INFORMATION CONTACT: Frances Veith or Lindsey Novom, AD/CVD Operations, Import Administration, International Trade Administration, U.S. Department of Commerce, 14th Street and Constitution Avenue, NW., Washington, DC 20230, telephone: (202) 482-4295 or (202) 482-5256, respectively.

SUPPLEMENTARY INFORMATION:

Background

On March 30, 2010, the Department of Commerce (“the Department”) initiated the administrative review of the antidumping duty order on small diameter graphite electrodes from the People's Republic of China (“PRC”) for the period August 21, 2008, through January 31, 2010. See Initiation of Antidumping and Countervailing Duty Administrative Reviews and Request for Revocation in Part, 75 FR 15679 (March 30, 2010). The preliminary results of this review were published on March 7, 2011. See Small Diameter Graphite Electrodes From the People's Republic of China: Preliminary Results of the First Administrative Review of the Antidumping Duty Order; Partial Rescission of Administrative Review; and Intent To Rescind Administrative Review, in Part, 76 FR 12325 (March 7, 2011). The final results of this review are currently due by July 5, 2011.

Statutory Time Limits

Section 751(a)(3)(A) of the Tariff Act of 1930, as amended (“the Act”), requires the Department to make a final determination in an administrative review within 120 days after the date on which the preliminary results are published. However, if it is not practicable to complete the review within this time period, section 751(a)(3)(A) of the Act allows the Department to extend the 120-day period to 180 days for the final results.

Extension of Time Limit of Final Results

We determine that it is not practicable to complete the final results of this review within the original time limit because the Department requires additional time to analyze issues raised in post-preliminary factual submissions concerning respondents' U.S. sales databases, case briefs, and rebuttal briefs. Therefore, the Department is extending the time limit for completion of the final results by 60 days. An extension of 60 days from the current deadline of July 5, 2011, would result in a new deadline of September 3, 2011. However, since September 3, 2011, falls on a Saturday, a non-business day, the final results will now be due no later than September 6, 2011, the next business day. See Notice of Clarification: Application of “Next Business Day” Rule for Administrative Determination Deadlines Pursuant to the Tariff Act of 1930, As Amended, 70 FR 24533 (May 10, 2005).

We are issuing and publishing this notice in accordance with sections 751(a)(3)(A) and 777(i)(1) of the Act.

Dated: June 14, 2011.
Christian Marsh,
Deputy Assistant Secretary for Antidumping and Countervailing Duty Operations.

[FR Doc. 2011-15449 Filed 6-20-11; 8:45 am]

BILLING CODE 3510-DS-P